DEPARTMENT OF TRANSPORTATION

Office of the Secretary

Aviation Proceedings, Agreements Filed the Week Ending April 27, 2007

The following Agreements were filed with the Department of Transportation under the Sections 412 and 414 of the Federal Aviation Act, as amended (49 U.S.C. 1383 and 1384) and procedures governing proceedings to enforce these provisions. Answers may be filed within 21 days after the filing of the application.

Docket Number: OST-2007-28027.

Date Filed: April 23, 2007.

Parties: Members of the International Air Transport Association.

Subject: Mail Vote 534—Resolution 010q, TC3/TC23 Special Passenger Amending, Resolution from Sri Lanka, (Memo 1084), Intended effective date: 1 May 2007.

Docket Number: OST-2007-28038.

Date Filed: April 24, 2007.

Parties: Members of the International Air Transport Association.

Subject: PSC/RESO/137 dated March 20, 2007, Finally Adopted Resolutions & Recommended Practices, PSC/MINS/019 dated March 20, 2007, Intended effective date: 1 June 2007.

Renee V. Wright,
Program Manager, Docket Operations, Federal Register Liaison.

[FR Doc. E7-9081 Filed 5-10-07; 8:45 am]

BILLING CODE 4910-9X-P